NUCLEAR REGULATORY COMMISSION

[Docket No. 030-31160, License No. 21-26060-01EA-03-100]

In the Matter of Mid American Inspection Services, Inc., Gaylord, MI; Order Imposing Civil Monetary Penalty

I

Mid American Inspection Services, Inc. (Licensee) is the holder of Materials License No.21-26060-01 issued (renewed) by the Nuclear Regulatory Commission (NRC or Commission) August 27, 2001. The license authorizes the Licensee to perform industrial radiography using NRC-licensed materials in accordance with the conditions specified therein.

II

The NRC conducted an inspection of the Licensee's activities on April 10, 2003. The results of this inspection indicated that the Licensee had not conducted its activities in full compliance with NRC requirements. A written Notice of Violation and Proposed Imposition of Civil Penalty (Notice) was served upon the Licensee by letter dated August 12, 2003. The Notice states the nature of the violation, the provision of the NRC's requirements that the Licensee had violated, and the amount of the civil penalty proposed for the violation.

The Licensee responded to the Notice in a letter dated, September 8, 2003. In its response, the Licensee admitted the violation and provided its corrective actions to prevent recurrence of similar violations in the future. The Licensee also requested reduction of the proposed civil penalty.

III

After consideration of the Licensee's response and the statements of fact, explanation, and argument for reduction contained therein, the NRC staff has exercised discretion and lowered the proposed civil penalty of $6,000 to $3,000. Therefore, a civil penalty in the amount of $3,000 should be imposed.

IV

In view of the foregoing and pursuant to Section 234 of the Atomic Energy Act of 1954, as amended (Act), 42 U.S.C. 2282, and 10 CFR 2.205, it is hereby ordered that:

The Licensee pay a civil penalty in the amount of $3,000 within 30 days of the date of this Order, in accordance with NUREG/BR-0254. In addition, at the time of making the payment, the licensee shall submit a statement indicating when and by what method payment was made, to the Director, Office of Enforcement, U.S. Nuclear Regulatory Commission, One White Flint North, 11555 Rockville Pike, Rockville, MD 20852-2738.

V

The Licensee may request a hearing within 30 days of the date of this Order. Where good cause is shown, consideration will be given to extending the time to request a hearing. A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, and to the Regional Administrator, NRC Region III, 801 Warrenville Road, Lisle, IL 60532-4351. Because of continuing disruptions in delivery of mail to United States Government offices, it is requested that requests for hearing be transmitted to the Secretary of the Commission either by means of facsimile transmission to (301) 415-1101 or by e-mail to hearingdocket@nrc.gov and also to the Office of the General Counsel either by means of facsimile transmission to (301) 415-3725 or by e-mail to OGCMailCenter@nrc.gov.

If a hearing is requested, the Commission will issue an Order designating the time and place of the hearing. If the Licensee fails to request a hearing within 30 days of the date of this Order (or if written approval of an extension of time in which to request a hearing has not been granted), the provisions of this Order shall be effective without further proceedings. If payment has not been made by that time, the matter may be referred to the Attorney General for collection.

In the event the Licensee requests a hearing as provided above, the issues to be considered at such hearing shall be:

Whether, on the basis of the violations admitted by the license, this Order should be sustained.

For the Nuclear Regulatory Commission.
Dated this 14th day of November, 2003.
Frank Congel,
Director, Office of Enforcement.

[FR Doc. 03-29244 Filed 11-21-03; 8:45 am]

BILLING CODE 7590-01-P